NATIONAL AERONAUTICS AND SPACE ADMINISTRATION

[Notice 00-065]

NASA Advisory Council (NAC), Space Science Advisory Committee (SScAC), Astronmical Search for Origins and Planetary Systems (ORIGINS); Subcommittee Meeting

AGENCY: National Aeronautics and Space Administration.

ACTION: Notice of meeting.

SUMMARY: In accordance with the Federal Advisory Committee Act, Public Law 92-463, as amended, the National Aeronautics and Space Administration announces a forthcoming meeting of the NASA Advisory Council, Space Science Advisory Committee, ORIGINS Subcommittee.

DATES: Tuesday, June 13, 2000, 8:30 a.m. to 5 p.m.; Wednesday, June 14, 2000, 8:30 a.m. to 5 p.m.

ADDRESSES: National Aeronautics and Space Administration, 300 E Street, SW, Program Review Center (PRC) 9H40 Washington, DC, 20546.

FOR FURTHER INFORMATION CONTACT: Dr. Anne L. Kinney, Code S, National Aeronautics and Space Administration, Washington, DC 20546, 202/358-0362.

SUPPLEMENTARY INFORMATION: The meeting will be open to the public up to the capacity of the room. The agenda for the meeting includes the following topics:

—Next Generation Space Telescope

—Discussion on Wide Field Camera 3

—Stratospheric Observatory for Infrared Astronomy Archive Nexus

It is imperative that the meeting be held on these dates to accommodate the scheduling priorities of the key participants. Visitors will be requested to sign a visitor's register.

Dated: May 30, 2000.
Matthew M. Crouch,
Advisory Committee Management Officer, National Aeronautics and Space Administration.

[FR Doc. 00-14040 Filed 6-5-00; 8:45 am]

BILLING CODE 7510-01-P